DEPARTMENT OF THE INTERIOR

Bureau of Land Management

DEPARTMENT OF AGRICULTURE

Forest Service

Notice of Call for Nominations for Appointment of Primary and Alternate Representatives, Santa Rosa and San Jacinto Mountains National Monument Advisory Committee; California

AGENCY: Bureau of Land Management, Interior; and U.S. Forest Service, Agriculture.

ACTION: Notice.

SUMMARY: This notice constitutes an open call to the public to submit nomination applications for positions on the Santa Rosa and San Jacinto Mountains National Monument Advisory Committee.

DATES: Nomination applications must be submitted to the address listed below no later than September 29, 2011.

ADDRESSES: Santa Rosa and San Jacinto Mountains National Monument Office, Attn: National Monument Manager, Advisory Committee Nomination Application, 1201 Bird Center Drive, Palm Springs, California 92262.

FOR FURTHER INFORMATION CONTACT: Jim Foote, National Monument Manager, Santa Rosa and San Jacinto Mountains National Monument, telephone (760) 833-7136; e-mail jfoote@ca.blm.gov.

SUPPLEMENTARY INFORMATION: Please submit nomination applications for the following positions on the Santa Rosa and San Jacinto Mountains National Monument Advisory Committee.

Primary Representatives

• Representative of the City of Palm Desert.

• Representative of the City of Rancho Mirage.

• Representative of the Agua Caliente Band of Cahuilla Indians.

• Representative of the Pinyon Community Council.

• Representative with expertise in natural science and research selected from a regional college or university.

Alternate Representatives

• Alternate representative of the City of Palm Desert.

• Alternate representative of the City of Rancho Mirage.

• Alternate representative of the Agua Caliente Band of Cahuilla Indians.

• Alternate representative of the Pinyon Community Council.

• Alternate representative with expertise in natural science and research selected from a regional college or university.

In accordance with the Santa Rosa and San Jacinto Mountains National Monument Act of 2000 (Pub. L. 106-351), the Secretary of the Interior and the Secretary of Agriculture (Secretaries) jointly established an advisory committee for the Santa Rosa and San Jacinto Mountains National Monument under the provisions of the Federal Advisory Committee Act. The purpose of the National Monument Advisory Committee (MAC) is to advise the Secretaries with respect to preparation and implementation of the National Monument Management Plan.

The MAC holds public meetings at least once per year. The Designated Federal Official, or his/her designee, may convene additional meetings as necessary. All MAC members are volunteers serving without pay, but will be reimbursed for travel and per diem expenses at the current rates for government employees in accordance with 5 U.S.C. 5703, when appropriate. Members of the MAC may be reappointed upon expiration of the member's current term.

All applicants must be citizens of the United States. Members are appointed by the Secretary of the Interior with concurrence by the Secretary of Agriculture. Applicants must be qualified through education, training, knowledge, or experience to give informed advice regarding an industry, discipline, or interest to be represented. The Obama Administration prohibits individuals who are currently federally registered lobbyists to serve on all FACA and non-FACA boards, committees, or councils.

There is no limit to the number of nomination applications which may be submitted for each open position. Any individual may nominate himself or herself for appointment. Completed nomination applications must include letters of reference and/or recommendations from the represented interests or organizations, and any other information explaining the nominee's qualifications (e.g., resume, curriculum vitae).

Nomination application packages are available at the Santa Rosa and San Jacinto Mountains National Monument Office, 1201 Bird Center Drive, Palm Springs, California; through the Santa Rosa and San Jacinto Mountains National Monument Web site at http://www.blm.gov/ca/st/en/info/rac/srsjmac.html; via telephone request at (760) 833-7100; by written request from the Santa Rosa and San Jacinto Mountains National Monument Manager at the following address: Santa Rosa and San Jacinto Mountains National Monument Office, Attn: National Monument Manager, Advisory Committee Nomination Application Request, 1201 Bird Center Drive, Palm Springs, California 92262; or through an e-mail request at jfoote@ca.blm.gov.

Each application package must include forms from the Department of the Interior and Department of Agriculture. All submitted nomination applications become the property of the Department of the Interior, Bureau of Land Management, Santa Rosa and San Jacinto Mountains National Monument, and will not be returned. Nomination applications are good only for the current open public call for nominations.

John R. Kalish,
Field Manager, Palm Springs-South Coast Field Office, California Desert District, Bureau of Land Management.
Laurie Rosenthal,
District Ranger, San Jacinto Ranger District, San Bernardino National Forest, Forest Service.

[FR Doc. 2011-16520 Filed 6-30-11; 8:45 am]

BILLING CODE 3410-11-P